ENVIRONMENTAL PROTECTION AGENCY

[FRL-6709-8]

Agency Information Collection Activities: Submission for OMB Review; Comment Request; EPA Indoor Environmental Quality Questionnaire

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval:

Title: EPA Indoor Environmental Quality Questionnaire, OMB Control Number 2060-0244, expiration date 5/31/2000. The ICR describes the nature of the information collection and its expected burden and cost; where appropriate, it includes the actual data collection instrument.

DATES: Comments must be submitted on or before July 6, 2000.

FOR FURTHER INFORMATION CONTACT: Sandy Farmer at EPA by phone at (202) 260-2740, by e-mail at Farmer.Sandy@epa.gov or download off the Internet at http://www.epa.gov/icr and refer to EPA ICR No. 1619.03.

SUPPLEMENTARY INFORMATION: Title: EPA Indoor Environmental Quality Questionnaire, OMB Control Number 2060-0244 EPA ICR Number 1619.03, expiration date 5/31/00. This is a request for extension of a currently approved collection.

Abstract: The Indoor Environmental Quality Questionnaire is a component of the EPA indoor air quality (IAQ) research program, used in the Building Assessment Survey and Evaluation (BASE) and related intervention studies. In this program, EPA is studying up to 200 large commercial and public buildings. The purpose of this program is to develop a national baseline assessment of the indoor air in such buildings and to test the effectiveness of current EPA guidance for improving IAQ. The activities EPA will conduct under this program include an Indoor Environmental Quality Questionnaire, building inspections, interviews with building maintenance workers, environmental measurements (e.g., ventilation rates, concentrations of indoor air pollutants), and other quantitative and qualitative assessments. By conducting this research, EPA will begin to be able to assess the key building parameters that affect IAQ, the incidence of certain IAQ-related health and comfort problems, and effectiveness of strategies to improve IAQ and avoid IAQ problems. The Indoor Environmental Quality Questionnaire is a voluntary and anonymous questionnaire asking for information pertaining to work station characteristics, working conditions, exposure to pollutants, health and well-being, and stress. Data from the Indoor Environmental Quality Questionnaire will be used to compare the measured building parameters and health effects.

Under the existing ICR authority, EPA has used this Questionnaire in 113 buildings to date.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 12, 1999 (64 FR 7188); 1 comment was received.

Burden Statement: The annual public reporting and recordkeeping burden for this collection of information is estimated to average 14 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Occupants of commercial and public facilities in wide variety of fields and SIC codes.

Estimated Number of Respondents: 500.

Frequency of Response: One-time response for 60% of respondents; 40% of respondents will complete questionnaire twice with a one-year interval between responses.

Estimated Total Annual Hour Burden: 127.

Estimated Total Annualized Cost Burden: $0.

Send comments on the Agency's need for this information, the accuracy of the provided burden estimates, and any suggested methods for minimizing respondent burden, including through the use of automated collection techniques to the following addresses. Please refer to EPA ICR No. 1619.03 and OMB Control No. 2060-0244 in any correspondence.

Ms. Sandy Farmer, U.S. Environmental Protection Agency, Office of Environmental Information, Collection Strategies Division, Mail Code 2822, 1200 Pennsylvania Avenue, NW, Washington, DC 20460;

and

Office of Information and Regulatory Affairs, Office of Management and Budget, Attention: Desk Officer for EPA, 725 17th Street, NW, Washington, DC 20503.

Dated: May 30, 2000.
Oscar Morales,
Director, Collection Strategies Division.

[FR Doc. 00-14180 Filed 6-5-00; 8:45 am]

BILLING CODE 6560-50-P